DEPARTMENT OF ENERGY

Federal Energy Regulatory Commission

Combined Notice of Filings #1

Take notice that the Commission received the following electric corporate filings:

Docket Numbers: EC19-67-000.

Applicants: PacifiCorp, Cedar Springs Transmission LLC.

Description: Joint Application for Authorization Under Section 203 of the Federal Power Act, et al. of PacifiCorp, et al.

Filed Date: 3/13/19.

Accession Number: 20190313-5265.

Comments Due: 5 p.m. ET 4/3/19.

Take notice that the Commission received the following exempt wholesale generator filings:

Docket Numbers: EG19-70-000.

Applicants: Buckleberry Solar, LLC.

Description: Notice of Self-Certification of Exempt Wholesale Generator Status of Buckleberry Solar, LLC.

Filed Date: 3/14/19.

Accession Number: 20190314-5096.

Comments Due: 5 p.m. ET 4/4/19.

Docket Numbers: EG19-71-000.

Applicants: CCP-PL Lessee III, LLC.

Description: Notice of Self-Certification of Exempt Wholesale Generator Status of CCP-PL Lessee III, LLC.

Filed Date: 3/14/19.

Accession Number: 20190314-5097.

Comments Due: 5 p.m. ET 4/4/19.

Take notice that the Commission received the following electric rate filings:

Docket Numbers: ER19-73-001.

Applicants: Conemaugh Power Pass-Through Holders LLC.

Description: Compliance filing: Informational Filing to be effective 12/14/2018.

Filed Date: 3/13/19.

Accession Number: 20190313-5213.

Comments Due: 5 p.m. ET 4/3/19.

Docket Numbers: ER19-74-001.

Applicants: Keystone Power Pass-Through Holders LLC.

Description: Compliance filing: Informational filing to be effective 12/14/2018.

Filed Date: 3/13/19.

Accession Number: 20190313-5215.

Comments Due: 5 p.m. ET 4/3/19.

Docket Numbers: ER19-603-001.

Applicants: PJM Interconnection, L.L.C.

Description: Tariff Amendment: Amendment to and Request for Shortened Comment in ER19-603 re: Effective Date to be effective 5/13/2019.

Filed Date: 3/13/19.

Accession Number: 20190313-5222.

Comments Due: 5 p.m. ET 4/3/19.

Docket Numbers: ER19-837-001.

Applicants: C.P. Crane LLC.

Description: Tariff Amendment: Amendment to New to be effective 1/19/2019.

Filed Date: 3/13/19.

Accession Number: 20190313-5223.

Comments Due: 5 p.m. ET 4/3/19.

Docket Numbers: ER19-1280-000.

Applicants: Broadlands Wind Farm LLC.

Description: Baseline eTariff Filing: Market-Based Rate Application to be effective 5/13/2019.

Filed Date: 3/13/19.

Accession Number: 20190313-5204.

Comments Due: 5 p.m. ET 4/3/19.

Docket Numbers: ER19-1281-000.

Applicants: Lexington Chenoa Wind Farm LLC.

Description: Baseline eTariff Filing: Market-Based Rate Application to be effective 5/13/2019.

Filed Date: 3/13/19.

Accession Number: 20190313-5214.

Comments Due: 5 p.m. ET 4/3/19.

Docket Numbers: ER19-1282-000.

Applicants: Paulding Wind Farm IV LLC.

Description: Baseline eTariff Filing: Market-Based Rate Application to be effective 5/13/2019.

Filed Date: 3/13/19.

Accession Number: 20190313-5221.

Comments Due: 5 p.m. ET 4/3/19.

Docket Numbers: ER19-1283-000.

Applicants: Exelon Corporation, Exelon Generation Company, LLC.

Description: Conditional Request for Waiver of Exelon Corporation, on behalf of its subsidiary Exelon Generation Company, LLC.

Filed Date: 3/13/19.

Accession Number: 20190313-5241.

Comments Due: 5 p.m. ET 4/3/19.

Docket Numbers: ER19-1293-000.

Applicants: Midcontinent Independent System Operator, Inc.

Description: § 205(d) Rate Filing: 2019-03-14_SA 3265 Johnson Junction-Morris Line Upgrade MPFCA (J493 J526) to be effective 2/28/2019.

Filed Date: 3/14/19.

Accession Number: 20190314-5032.

Comments Due: 5 p.m. ET 4/4/19.

Docket Numbers: ER19-1297-000.

Applicants: Southwest Power Pool, Inc.

Description: § 205(d) Rate Filing: 1276R19 KCPL NITSA NOA to be effective 3/1/2019.

Filed Date: 3/14/19.

Accession Number: 20190314-5042.

Comments Due: 5 p.m. ET 4/4/19.

Docket Numbers: ER19-1298-000.

Applicants: Southwestern Public Service Company.

Description: § 205(d) Rate Filing: Wholesale Fuel Protocols Update— 3/1/19 to be effective 3/1/2019.

Filed Date: 3/14/19.

Accession Number: 20190314-5071.

Comments Due: 5 p.m. ET 4/4/19.

Docket Numbers: ER19-1299-000.

Applicants: El Paso Electric Company.

Description: § 205(d) Rate Filing: Concurrence to APS Rate Schedule No. 212 to be effective 3/21/2012.

Filed Date: 3/14/19.

Accession Number: 20190314-5073.

Comments Due: 5 p.m. ET 4/4/19.

Docket Numbers: ER19-1300-000.

Applicants: PJM Interconnection, L.L.C.

Description: § 205(d) Rate Filing: Third Revised ISA, SA No. 2960; Queue No. AD1-052 to be effective 2/12/2019.

Filed Date: 3/14/19.

Accession Number: 20190314-5074.

Comments Due: 5 p.m. ET 4/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2019.
Kimberly D. Bose,
Secretary.

[FR Doc. 2019-05201 Filed 3-19-19; 8:45 am]

BILLING CODE 6717-01-P